DEPARTMENT OF VETERANS AFFAIRS

VASRD Status Summit: A Public Overview of Proposed Disability Evaluation Criteria

AGENCY: Department of Veterans Affairs.

ACTION: Notice of Meeting.

SUMMARY: The Veterans Benefits Administration (VBA) will host the Department of Veterans Affairs (VA) Schedule for Rating Disabilities (VASRD) Status Summit: A Public Overview of Proposed Disability Evaluation Criteria. The purpose of the VASRD Status Summit is to capture public comments on working drafts of proposed regulations for nine body systems and promote transparency by providing the proposed contents of those working drafts to the public. VA has previously hosted VASRD Forums, where subject matter experts and members of the public provided their input, prior to the drafting of proposed regulations for the body systems. VA plans to use comments provided at and following this Summit to consider edits and review updates pertaining to the following nine body systems: (1) The Hemic and Lymphatic Systems (38 CFR 4.117), (2) The Endocrine System (38 CFR 4.119), (3) Mental Disorders (38 CFR 4.125-4.130), (4) Infectious Diseases, Immune Disorders and Nutritional Deficiencies (38 CFR 4.88-4.89), (5) The Musculoskeletal System (38 CFR 4.40-4.73), (6) The Digestive System (38 CFR 4.110-4.114), (7) The Genitourinary System (38 CFR 4.115-4.115b), (8) Dental and Oral Conditions (38 CFR 4.149-4.150), and a newly proposed body system, Rheumatic Diseases. Specifically, working drafts containing proposed revisions to diagnostic code descriptors and evaluation criteria will be available for public review and comment.

DATES: The Summit will take place June 4-8 and 11-13, 2012, from 8:30 a.m. to 4:30 p.m. each day. Plenary sessions on June 4-6, 2012 will cover a summary overview of changes to all nine body systems. The sessions on June 7 and 8, and 11-13, 2012, copies of the working drafts of all nine body systems will be available for individual review by members of the public.

ADDRESSES: All Summit sessions will be held at the Hilton Garden Inn, located at 1333 N. Courthouse Rd. Arlington, VA 22201.

Public Comment: Contingent upon available time, individuals wishing to make oral statements or ask questions during the June 4-June 6, 2012 sessions will be accommodated on a first-come, first-served basis. On June 7 and 8, and 11-13, 2012, copies of the working drafts of all nine body systems will be available for individual members of the public to review. VA will accept written comments regarding these working drafts at the site of the Summit via a comments box, as well as via email at VSScomments.VBACO@va.gov or through regular mail. Comments must be received by VA on or before July 13, 2012. Written comments submitted through regular mail may be sent to Director, Regulations Management (02REG), Department of Veterans Affairs, 810 Vermont Ave. NW., Room 1068, Washington, DC 20420.

FOR FURTHER INFORMATION CONTACT: Thomas Kniffen, Chief, Regulation Staff, Compensation Service, Department of Veterans Affairs, 810 Vermont Ave. NW., Washington, DC 20420. Anyone wishing to attend these meetings or seeking additional information may also contact Thomas Kniffen at (202) 461-9700 or Thomas.Kniffen@va.gov.

Dated: May 16, 2012.
John R. Gingrich,
Chief of Staff, Department of Veterans Affairs.

[FR Doc. 2012-12285 Filed 5-18-12; 8:45 am]

BILLING CODE 8320-01-P